FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, by January 8, 2001.

Agreement No.: 011528-017.

Title: Japan-United States Eastbound Freight Conference Agreement.

Parties: American President Lines, Ltd., Hapag-Lloyd Container Line GmbH, Kawasaki Kisen Kaisha, Ltd., Mitsui O.S.K. Lines, Ltd., A. P. Moller-Maersk Sealand, Nippon Yusen Kaisha, P&O Nedlloyd B.V., P&O Nedlloyd Limited, Wallenius Wilhelmsen Lines AS.

Synopsis: The amendment continues the extension of the suspension of the agreement through July 31, 2001.

Agreement No.: 011649-003.

Title: Joint Operating Agreement Between Interocean Lines, Inc. and Trinity Shipping Lines, S.A.

Parties: Interocean Lines, Inc. Trinity Shipping Line, S.A.

Synopsis: The modification restates the agreement to specify that two vessels will be committed to the service; exclude revenue sharing and otherwise narrow the terms of the agreement to those required of a vessel sharing arrangement; extend the term of the agreement through January 31, 2003, with automatic yearly renewal; and specify ports served in the trade between South Florida and Panama, Ecuador, Peru, and Colombia.

Agreement No.: 011739.

Title: YML/HJS U.S. East and Gulf Coast Slot Charter Agreement.

Parties: Yangming Marine Transport Corp., Hanjin Shipping Co., Ltd.

Synopsis: The slot charter agreement permits Yangming to charter space to Hanjin in the trade between the U.S. East and Gulf Coast and Europe.

Agreement No.: 011740.

Title: Maersk Sealand/Nordana/CGM Antilles/Gyuane/Marfret, Mediterranean/Caribbean Sea Vessel Sharing Agreement.

Parties: A.P. Moller-Maersk Sealand, CGM Antilles Gyuane, Compagnie Maritime Marfret, S.A., Nordana Line AS.

Synopsis: The proposed agreement authorizes a vessel sharing arrangement among the parties for the purpose of operating of a new direct weekly service between Puerto Rico and the Virgin Islands and the Mediterranean and other Caribbean points.

Agreement No.: 011741.

Title: U.S. Pacific Coast-Oceania Agreement.

Parties: P&O Nedlloyd Limited/P&O Nedlloyd B.V., Australia New Zealand Direct Line, Hamburg-Sudamerikanische-Dampfschifffahrtsgesellschaft KG (Columbus Line), Fesco Ocean Management Limited.

Synopsis: The proposed agreement authorizes the parties to discuss and agree on the number of vessels deployed and to charter space to/from one another in the trades between the U.S. Pacific Coast and Australia, New Zealand, and the Pacific Islands, and between the U.S. Pacific Coast and Canada and Mexico. It also authorizes the parties to engage in limited related cooperative activities.

By Order of the Federal Maritime Commission
Dated: December 21, 2000.
Bryant L. VanBrakle,
Secretary.

[FR Doc. 00-33075 Filed 12-27-00; 8:45 am]

BILLING CODE 6730-01-P